DEPARTMENT OF LABOR

Agency Information Collection Activities; Submission for OMB Review; Comment Request; Quarterly Census of Employment and Wages Business Supplement

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that agency receives on or before May 26, 2023.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Quarterly Census of Employment and Wages Business Supplement (QBS) is a versatile collection instrument designed to capture information on the US economy quicky and efficiently using the BLS Annual Refiling Survey as the data collection platform. The QBS collection is designed to incorporate new questionnaires as the need arises to allow BLS to collect and publish information quickly so that stakeholders and data users can understand the impact of specific events on the US economy as they occur. The initial QBS survey, the 2021 Business Response Survey, collected information on how establishments were responding to the coronavirus pandemic and was followed by the 2022 Business Response Survey that captured information on telework, hiring, and vacancies at establishments as the economy began to emerge from the pandemic. This third QBS survey, the 2023 Business Response Survey, is being conducted on behalf of the Department of Labor's Employment and Training Administration (ETA). It will collect information on employer's experiences with layoffs since the start of the coronavirus pandemic and their familiarity with state workforce programs to better understand current labor market conditions at this stage of the coronavirus pandemic recovery and inform ETA of business' familiarity with the Short-Time Compensation (STC) program and other state workforce programs. For additional substantive information about this ICR, see the related notice published in the Federal Register on February 3, 2021 (86 FRN 8037).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks authorization for this information collection under OMB Control Number 1220-0198. The current approval is scheduled to expire on July 31, 2024.

Agency: DOL-BLS.

Title of Collection: Quarterly Census of Employment and Wages Business Supplement.

OMB Control Number: 1220-0198.

Affected Public: Businesses or other for-profit institutions, not-for-profit institutions, and farms.

Total Estimated Number of Respondents: 80,000.

Total Estimated Number of Responses: 80,000.

Total Estimated Annual Time Burden: 8,000 hours.

Total Estimated Annual Other Costs Burden: $0.

(Authority: 44 U.S.C. 3507(a)(1)(D))

Nicole Bouchet,
Senior PRA Analyst.

[FR Doc. 2023-08757 Filed 4-25-23; 8:45 am]

BILLING CODE 4510-24-P